DEPARTMENT OF LABOR

Employment and Training Administration

[TA-W-38,581]

American Standard, Inc., Trenton, NJ; Amended Certification Regarding Eligibility To Apply for Worker Adjustment Assistance

In accordance with section 223 of the Trade Act of 1974 (19 U.S.C. 2273) the Department of Labor issued a Certification of Eligibility to Apply for Worker Adjustment Assistance on March 12, 2001, applicable to workers of American Standard, Inc. The notice was published in the Federal Register on April 16, 2001 (66 FR 19521).

At the request of the State agency, the Department reviewed the certification for workers of the subject firm. The workers were engaged in the production of sanitary wares including bowls, toilets, pedestals, basins, lavatories, and combination toilets until the company closed at the end of 2001.

New information shows that workers were retained at the subject firm beyond the March 12, 2003 expiration date of the certification. These employees completed the close-down process until their termination on April 12, 2003. Based on these findings, the Department is amending the certification to extend the March 12, 2003 expiration date for TA-W-38,581 to read April 12, 2003.

The intent of the Department's certification is to include all workers of American Standard, Inc. who were adversely affected by increased imports.

The amended notice applicable to TA-W-38,581 is hereby issued as follows:

All workers of American Standard, Inc., Trenton, New Jersey, who became totally or partially separated from employment on or after January 10, 2000, through April 12, 2003, are eligible to apply for adjustment assistance under Section 223 of the Trade Act of 1974.

Signed at Washington, DC this 9th day of July 2003.
Linda G. Poole,
Certifying Officer, Division of Trade Adjustment Assistance.

[FR Doc. 03-18829 Filed 7-23-03; 8:45 am]

BILLING CODE 4510-30-P